DEPARTMENT OF THE TREASURY

Internal Revenue Service

Electronic Tax Administration Advisory Committee (ETAAC)

AGENCY: Internal Revenue Service (IRS), Treasury.

ACTION: Notice of open meeting.

SUMMARY: In 1998 the Internal Revenue Service established the Electronic Tax Administration Advisory Committee (ETAAC). The primary purpose of ETAAC is to provide an organized public forum for discussion of electronic tax administration issues in support of the overriding goal that paperless filing should be the preferred and most convenient method of filing tax and information returns. ETAAC offers constructive observations about current or proposed policies, programs, and procedures, and suggests improvements. Listed is a summary of the agenda along with the planned discussion topics.

Summarized Agenda

9 a.m. Meeting Opens

12 noon Meeting Adjourns

The planned discussion topics are:

(1) Discussion with ETA Director

(2) Overview of IRS Operations Support Organization

(3) IRS Security Summit

Note: Last-minute changes to these topics are possible and could prevent advance notice.

DATES: There will be a meeting of ETAAC on Thursday, December 2, 2004. This meeting will be open to the public, and will be in a room that accommodates approximately 40 people, including members of ETAAC and IRS officials. Seats are available to members of the public on a first-come, first-served basis.

ADDRESSES: The meeting will be held at the Hilton Garden Inn—Franklin Square—815 14th Street, NW., Washington, DC 20005.

FOR FURTHER INFORMATION CONTACT: To have your name put on the guest list and to receive a copy of the agenda or general information about ETAAC, please contact Kim Logan on 202-283-1947 or at kim.a.logan@irs.gov by Monday, November 29, 2004. Notification of intent should include your name, organization and telephone number. Please spell out all names if you leave a voice message.

SUPPLEMENTARY INFORMATION: ETAAC reports to the Director, Electronic Tax Administration, the executive responsible for the electronic tax administration program. Increasing participation by external stakeholders in the development and implementation of the strategy for electronic tax administration, will help IRS achieve the goal that paperless filing should be the preferred and most convenient method of filing tax and information returns.

ETAAC members are not paid for their time or services, but consistent with Federal regulations, they are reimbursed for their travel and lodging expenses to attend the public meetings, working sessions, and an orientation each year.

Dated: November 12, 2004.
Beatrice D. Howell,
Acting Director, Strategic Services Division.

[FR Doc. 04-25740 Filed 11-18-04; 8:45 am]

BILLING CODE 4830-01-P